DEPARTMENT OF COMMERCE

International Trade Administration

[A-570-896]

Magnesium Metal From the People's Republic of China: Rescission of Antidumping Duty Administrative Review

AGENCY: Import Administration, International Trade Administration, Department of Commerce.

DATES: September 15, 2011.

SUMMARY: On May 27, 2011, the U.S. Department of Commerce (“the Department”) published a notice of initiation of an administrative review of the antidumping duty order on magnesium metal from the People's Republic of China (“PRC”).¹ The review covers one manufacturer/exporter of subject merchandise from the PRC, Tianjin Magnesium International Co., Ltd. (“TMI”). The period of review (“POR”) is April 1, 2010 through March 31, 2011. Following the receipt of a certification of no shipments from TMI, and a subsequent no-shipment inquiry to U.S. Customs and Border Protection (“CBP”), on July 14, 2011, we notified all interested parties of the Department's intent to rescind this review and provided an opportunity to comment on the rescission.² We received no comments. Therefore, we are rescinding this administrative review.

¹ See Initiation of Antidumping and Countervailing Duty Administrative Reviews, 76 FR 30912 (May 27, 2011) (“Initiation”).

² See Memorandum to the File, “Magnesium Metal from the People's Republic of China: Intent to Rescind the 2010-2011 Antidumping Duty Administrative Review of Magnesium Metal from the People's Republic of China—A-570-896,” dated July 14, 2011 (“Intent to Rescind Memorandum”).

FOR FURTHER INFORMATION CONTACT: Laurel LaCivita, AD/CVD Operations, Office 8, Import Administration, International Trade Administration, U. S. Department of Commerce, 14th Street and Constitution Avenue, NW., Washington, DC 20230; telephone: (202) 482-4243.

SUPPLEMENTARY INFORMATION:

Background

On April 1, 2011, the Department published a notice of opportunity to request an administrative review of the antidumping duty order on magnesium metal from the PRC for the period April 1, 2010 through March 31, 2011.³ On May 2, 2011, U.S. Magnesium LLC (“U.S. Magnesium”), a domestic producer and Petitioner in the underlying investigation of this case, made a timely request that the Department conduct an administrative review of TMI.⁴ On May 27, 2011, in accordance with section 751(a) of the Tariff Act of 1930, as amended (“the Act”), the Department published in the Federal Register a notice of initiation of this antidumping duty administrative review.⁵ On June 14, 2011, TMI submitted a letter to the Department certifying that it did not export magnesium metal for sale in the United States during the POR and that it did not make entries of such merchandise into the United States during the POR.⁶

³ See Antidumping or Countervailing Duty Order, Finding, or Suspended Investigation; Opportunity To Request Administrative Review, 75 FR 16426 (April 1, 2010).

⁴ See letter from U.S. Magnesium, “Magnesium Metal from the People's Republic of China: Request for Administrative Review,” dated May 2, 2011.

⁵ See Initiation, 76 FR at 30918.

⁶ See letter from TMI, “Magnesium Metal from the People's Republic of China; A-570-896; Certification of No Sales by Tianjin Magnesium International Co., Ltd.,” dated June 14, 2011.

On June 20, 2011, the Department placed on the record information obtained in response to the Department's query to CBP concerning imports into the United States of subject merchandise during the POR.⁷ This data indicates that there were no entries of subject merchandise during the POR that had been exported by TMI. In addition, on June 30, 2011, we notified CBP that we were in receipt of a no-shipment certification from TMI and requested CBP to report any contrary information within 10 days.⁸ CBP did not report any contrary information.

⁷ See Memorandum to the File, “Magnesium Metal from the People's Republic of China; Transmittal of U.S. Customs and Border Protection Information to the File,” dated June 20, 2011, at Attachment I.

⁸ See CBP message number 1180301, “No Shipments Inquiry For Magnesium Metal From China Exported By Tianjin Magnesium International Co., Ltd. (“TMI”),” dated June 30, 2011.

On July 14, 2011, the Department notified interested parties of its intent to rescind this administrative review and gave parties until July 21, 2010, to provide comments. We did not receive any comments.

Scope of the Order

The product covered by this antidumping duty order is magnesium metal from the PRC, which includes primary and secondary alloy magnesium metal, regardless of chemistry, raw material source, form, shape, or size. Magnesium is a metal or alloy containing by weight primarily the element magnesium. Primary magnesium is produced by decomposing raw materials into magnesium metal. Secondary magnesium is produced by recycling magnesium-based scrap into magnesium metal. The magnesium covered by this order includes blends of primary and secondary magnesium.

The subject merchandise includes the following alloy magnesium metal products made from primary and/or secondary magnesium including, without limitation, magnesium cast into ingots, slabs, rounds, billets, and other shapes; magnesium ground, chipped, crushed, or machined into rasping, granules, turnings, chips, powder, briquettes, and other shapes; and products that contain 50 percent or greater, but less than 99.8 percent, magnesium, by weight, and that have been entered into the United States as conforming to an “ASTM Specification for Magnesium Alloy” ⁹ and are thus outside the scope of the existing antidumping orders on magnesium from the PRC (generally referred to as “alloy” magnesium).

⁹ The meaning of this term is the same as that used by the American Society for Testing and Materials in its Annual Book for ASTM Standards: Volume 01.02 Aluminum and Magnesium Alloys.

The scope of this order excludes: (1) All forms of pure magnesium, including chemical combinations of magnesium and other material(s) in which the pure magnesium content is 50 percent or greater, but less than 99.8 percent, by weight, that do not conform to an “ASTM Specification for Magnesium Alloy” ¹⁰; (2) magnesium that is in liquid or molten form; and (3) mixtures containing 90 percent or less magnesium in granular or powder form by weight and one or more of certain non-magnesium granular materials to make magnesium-based reagent mixtures, including lime, calcium metal, calcium silicon, calcium carbide, calcium carbonate, carbon, slag coagulants, fluorspar, nephaline syenite, feldspar, alumina (Al203), calcium aluminate, soda ash, hydrocarbons, graphite, coke, silicon, rare earth metals/mischmetal, cryolite, silica/fly ash, magnesium oxide, periclase, ferroalloys, dolomite lime, and colemanite.¹¹

¹⁰ The material is already covered by existing antidumping orders. See Notice of Antidumping Duty Orders: Pure Magnesium from the People's Republic of China, the Russian Federation and Ukraine; Notice of Amended Final Determination of Sales at Less Than Fair Value: Antidumping Duty Investigation of Pure Magnesium from the Russian Federation, 60 FR 25691 (May 12, 1995); and Antidumping Duty Order: Pure Magnesium in Granular Form from the People's Republic of China, 66 FR 57936 (November 19, 2001).

¹¹ This third exclusion for magnesium-based reagent mixtures is based on the exclusion for reagent mixtures in the 2000-2001 investigations of magnesium from China, Israel, and Russia. See Final Determination of Sales at Less Than Fair Value: Pure Magnesium in Granular Form From the People's Republic of China, 66 FR 49345 (September 27, 2001); Final Determination of Sales at Less Than Fair Value: Pure Magnesium From Israel, 66 FR 49349 (September 27, 2001); Final Determination of Sales at Not Less Than Fair Value: Pure Magnesium From the Russian Federation, 66 FR 49347 (September 27, 2001). These mixtures are not magnesium alloys, because they are not combined in liquid form and cast into the same ingot.

The merchandise subject to this order is classifiable under items 8104.19.00, and 8104.30.00 of the Harmonized Tariff Schedule of the United States (“HTSUS”). Although the HTSUS items are provided for convenience and customs purposes, the written description of the merchandise is dispositive.

Rescission of the Administrative Review

Based upon the certifications and the evidence on the record, the Department finds TMI's claim of no shipments of subject merchandise to the United States during the POR to be substantiated. Pursuant to 19 CFR 351.213(d)(3), the Department may rescind an administrative review, in whole or with respect to a particular exporter or producer, if the Secretary concludes that, during the period covered by the review, there were no entries, exports, or sales of the subject merchandise. Therefore, the Department is rescinding this review in accordance with 19 CFR 351.213(d)(3). The Department intends to instruct CBP fifteen days after the publication of this notice to liquidate such entries. Antidumping duties shall be assessed at rates equal to the cash deposit of estimated antidumping duties required at the time of entry, or withdrawal from warehouse, for consumption, in accordance with 19 CFR 351.212(c)(2).

We are issuing and publishing this notice in accordance with sections 751(a)(1) and 777(i) of the Act and 19 CFR 351.213(d)(4).

Dated: September 6, 2011.
Christian Marsh,
Deputy Assistant Secretary for Antidumping and Countervailing Duty Operations.

[FR Doc. 2011-23691 Filed 9-14-11; 8:45 am]

BILLING CODE 3510-DS-P